DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, N.W., Washington, D.C. 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated her responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on April 3, 2000, through June 30, 2000.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Associate Administrator, Bureau of Health Professions, 5600 Fishers Lane, Room 8-05, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Tammy Sharp on behalf of Daniel Sharp, Houston, Texas, Court of Federal Claims Number 00-0176V

2. Catherine M. Wucker, Vienna, Virginia, Court of Federal Claims Number 00-0179V

3. Maureen E. Carr, Vienna, Virginia, Court of Federal Claims Number 00-0180V

4. Jennifer K. Duncan, Vienna, Virginia, Court of Federal Claims Number 00-0181V

5. Jill S. Whetmore-Brown and Michael Brown on behalf of Michael Brown, Flower Mound, Texas, Court of Federal Claims Number 00-0182V

6. Christy and Wesley Duncan on behalf of Jacob Wesley Duncan, Temple, Texas, Court of Federal Claims Number 00-0183V

7. Ellen and Allen Dye on behalf of Mark Allen Dye, Jr., Berkley Springs, West Virginia, Court of Federal Claims Number 00-0184V

8. Patricia and Ira Bonner on behalf of Jenna Nicole Bonner, Bluffton, South Carolina, Court of Federal Claims Number 00-0194V

9. Suzanne Chouinard on behalf of Julien Chouinard, Boston, Massachusetts, Court of Federal Claims Number 00-0196V

10. Margo Ferro on behalf of Nico Ferro, Scarsdale, New York, Court of Federal Claims Number 00-0201V

11. Annamma Abraham, Dallas, Texas, Court of Federal Claims Number 00-0203V

12. Andrea J. Newman, Houlton, Maine, Court of Federal Claims Number 00-0206V

13. Isabel Salgado, Chicago, Illinois, Court of Federal Claims Number 00-0219V

14. Jacqueline Chait, Portland, Maine, Court of Federal Claims Number 00-0224V

15. Helen Harwell on behalf of Mari Hall, Deceased, Dallas, Texas, Court of Federal Claims Number 00-0230V

16. Charron Sayre on behalf of Gabriel Sayre, Fairborne, Ohio, Court of Federal Claims Number 00-0231V

17. Nancy Whittington, Lafayette, Louisiana, Court of Federal Claims Number 00-0232V

18. Anthony Wright, Amarillo, Texas, Court of Federal Claims Number 00-0233V

19. Norma Jean Steele on behalf of Tiffany Jane Steele, Pensacola, Florida, Court of Federal Claims Number 00-0235V

20. Ruth and Walter Quiller on behalf of Timothy Quiller, Augusta, Georgia, Court of Federal Claims Number 00-0252V

21. Marcy and Michael Tarrants on behalf of Blake Tarrants, Sedalia, Missouri, Court of Federal Claims Number 00-0256V

22. Arthur Beaty on behalf of Sheronda Beaty, Rochester, New York, Court of Federal Claims Number 00-0266V

23. Elaine Pietrucha on behalf of Bradley Pietrucha, Milford, New Jersey, Court of Federal Claims Number 00-0269V

24. Debra Keith Elizabethtown, Kentucky, Court of Federal Claims Number 00-0273V

25. Rhonda Rogers on behalf of Nathan D. Rogers, Lottsburg, Virginia, Court of Federal Claims Number 00-0276V

26. Kristen and Patrick Strain on behalf of Zachary P. Strain, Waterville, New York, Court of Federal Claims Number 00-0279V

27. Gina and Carl Geppert on behalf of Carl Lee Geppart, III, Vienna, Virginia, Court of Federal Claims Number 00-0286V

28. Patricia Groht, Vienna, Virginia, Court of Federal Claims Number 00-0287V

29. Jill and Dugan Dietz on behalf of Lukas Jackson Dietz, Deceased, Wheeling, West Virginia, Court of Federal Claims Number 00-0288V

30. Melynda Slay on behalf of Harrison Bryce Slay, Aurora, Colorado, Court of Federal Claims Number 00-0289V

31. Amanda Fussell on behalf of Samantha Butts, Deceased, Palm, California, Court of Federal Claims Number 00-0309V

32. Jill F. Thigpen, Vienna, Virginia, Court of Federal Claims Number 00-0319V

33. Firas and Rania Sallaj on behalf of Zena Sallaj, Buffalo, New York, Court of Federal Claims Number 00-0321V

34. Kathy and Todd Meena on behalf of Cameron Todd Meena, Orlando, Florida, Court of Federal Claims Number 00-0327V

35. Juan Perez and Irma Hernandez on behalf of Daphne Perez, Los Angeles, California, Court of Federal Claims Number 00-0328V

36. Linda Cook on behalf of Michael Cook, Vienna, Virginia, Court of Federal Claims Number 00-0331V

37. Esther Maupins, Lexington, Kentucky, Court of Federal Claims Number 00-0332V

38. Joee Jacobs on behalf of Chanz Jacobs, Bay City, Michigan, Court of Federal Claims Number 00-0333V

39. Nancy Hilliard on behalf of Owen S. Hilliard, Ramona, California, Court of Federal Claims Number 00-0341V

40. Laurie Ann Amimoto on behalf of Jacqueline Amimoto, Sacramento, California, Court of Federal Claims Number 00-0342V

41. Kyle Youngberg Ames, Iowa, Court of Federal Claims Number 00-0345V

42. Wanda E. Dennis on behalf of Brian Keith Wingate, Manning, South Carolina, Court of Federal Claims Number 00-0346V

43. Tracy and Scott Weeks on behalf of Jenica Weeks, Deceased, Boston, Massachusetts, Court of Federal Claims Number 00-0348V

44. Chue Xiong, Sacramento, California, Court of Federal Claims Number 00-350V

45. Marion Underwood on behalf of Cesar Zachary Moreno, Deceased, Boston, Massachusetts, Court of Federal Claims Number 00-0357V

46. Ann Haynes on behalf of Elizabeth Haynes, Boston, Massachusetts, Court of Federal Claims Number 00-0358V

47. Cynthia Wells on behalf of Ezra James McCorkle, Boone, North Carolina, Court of Federal Claims Number 00-0359V

48. Sandra and William Spoon on behalf of William Spoon, Phoenix, Arizona, Court of Federal Claims Number 00-0360V

49. Kimberly Willingham on behalf of Courtney Willingham, Rockford, Illinois, Court of Federal Claims Number 00-0363V

50. Kristin and Mark Rogers on behalf of Colin Rogers, Chapel Hill, North Carolina, Court of Federal Claims Number 00-0368V

51. Stephanie and Cory Geho on behalf of Griffin Cole Geho, Portsmouth, Ohio, Court of Federal Claims Number 00-0370V

52. Sherri Lynn Boothby, Vienna, Virginia, Court of Federal Claims Number 00-0371V

53. Kristin Rogers on behalf of Colin Rogers, Chapel Hill, North Carolina, Court of Federal Claims Number 00-0372V

54. Anthony Joseph Tedesco, Clinton Township, Michigan, Court of Federal Claims Number 00-0373V

Dated: October 26, 2000.
Claude Earl Fox,
Administrator.

[FR Doc. 00-28136 Filed 11-1-00; 8:45 am]

BILLING CODE 4160-15-U